DEPARTMENT OF DEFENSE

GENERAL SERVICES ADMINISTRATION

NATIONAL AERONAUTICS AND SPACE ADMINISTRATION

[OMB Control No. 9000-0169; Docket 2010-0083; Sequence 21]

Submission for OMB Review; American Recovery and Reinvestment Act—Quarterly Reporting for Prime Contractors

AGENCY: Department of Defense (DOD), General Services Administration (GSA), and National Aeronautics and Space Administration (NASA).

ACTION: Notice of request for comments regarding an extension to an existing OMB clearance (9000-0169).

SUMMARY: Under the provisions of the Paperwork Reduction Act of 1995 (44 U.S.C. chapter 35), the Federal Acquisition Regulation, Regulatory Secretariat, will be submitting to the Office of Management and Budget (OMB) a request to review and approve an extension of a currently approved information collection requirement concerning the American Recovery and Reinvestment Act—Quarterly Reporting for Prime Contractors. A request for public comments was published in the Federal Register at 74 FR 14639, on March 31, 2009.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before May 10, 2010.

ADDRESSES: Submit comments regarding this burden estimate or any other aspect of this collection of information, including suggestions for reducing this burden to: FAR Desk Officer, OMB, Room 10102, NEOB, Washington, DC 20503, and a copy to the Regulatory Secretariat (MVCB), General Services Administration, 1800 F Street, NW., Room 4041, Washington, DC 20405. Please cite OMB Control No. 9000-0169, American Recovery and Reinvestment Act—Quarterly Reporting for Prime Contractors, in all correspondence.

FOR FURTHER INFORMATION CONTACT: Mr. Ernest Woodson, Procurement Analyst, Contract Policy Branch, at telephone (202) 501-3775 or via e-mail to ernest.woodson@gsa.gov.

SUPPLEMENTARY INFORMATION:

A. Purpose

Elements updated quarterly for which the burden is imposed on the prime contractor include the following (information on the data elements can be found at FederalReporting.gov at the Recipient Reporting Data Model site):

a. The amount of Recovery Act funds invoiced by the contractor for the reporting period. A cumulative amount from all the reports submitted for this action will be maintained by the government's on-line reporting tool;

b. A list of all significant services performed or supplies delivered, including construction, for which the contractor has invoiced; and

c. An assessment of the contractor's progress towards the completion of the overall purpose and expected outcomes or results of the contract (i.e., not started, less than 50 percent completed, completed 50 percent or more, or fully completed). This covers the contract (or portion thereof) funded by the Recovery Act.

B. Annual Reporting Burden

Respondents: 36,680.

Responses per Respondent: 5.

Total Annual Reponses: 183,400.

Hours per Response: 1.5.

Total Burden Hours: 275,100.

Obtaining Copies of Proposals: Requesters may obtain a copy of the information collection documents from the General Services Administration, Regulatory Secretariat (MVCB), 1800 F Street, NW., Room 4041, Washington, DC 20405, telephone (202) 501-4755. Please cite OMB Control No. 9000-0169, American Recovery and Reinvestment Act—One-time Reporting, Compensation Requirements, in all correspondence.

Dated: April 1, 2010.
Al Matera,
Director, Acquisition Policy Division.

[FR Doc. 2010-8030 Filed 4-7-10; 8:45 am]

BILLING CODE 6820-EP-P